DEPARTMENT OF HOMELAND SECURITY

U.S. Customs and Border Protection

Notice of Revocation of Customs Brokers' Licenses

AGENCY: U.S. Customs and Border Protection, Department of Homeland Security.

ACTION: Revocation of customs brokers' licenses.

SUMMARY: This document provides notice of the revocation by operation of law of customs brokers' licenses.

FOR FURTHER INFORMATION CONTACT: Melba Hubbard, Branch Chief, Broker Management, Office of Trade, (202) 325-6986, melba.hubbard@cbp.dhs.gov.

SUPPLEMENTARY INFORMATION: This document provides notice that, pursuant to section 641 of the Tariff Act of 1930, as amended (19 U.S.C. 1641), and section 111.30(d) of title 19 of the Code of Federal Regulations (19 CFR 111.30(d)), the following customs brokers' licenses were revoked by operation of law, without prejudice, for failure to file a triennial status report. A list of revoked customs brokers' licenses appears below with both the port, which issued the licenses, and the brokers' names within the port of issuance whose licenses were revoked, set forth alphabetically.

Last name | First name | License | Port of issuance
Holstrom | Dennis W | 03912 | Seattle.
Johnson | Roberta L | 22323 | Seattle.
Kahng | Patrick | 28506 | Seattle.
Requa | Jared | 28092 | Seattle.
Warren | Joni S | 14325 | Seattle.

This document further provides notice that, pursuant to 19 U.S.C. 1641 and 19 CFR 111.45(a), the following customs brokers' licenses and all associated permits were revoked by operation of law for failure to employ at least one qualifying individual who holds a valid customs broker's license. A list of revoked customs brokers' licenses appears below with both the port, which issued the licenses, and the brokers' names within the port of issuance whose licenses were revoked, set forth alphabetically.

Company name | License | Port of issuance
Franklin Global Strategies | 23401 | Buffalo.
Anji Logistics USA Inc | 33344 | Detroit.

Dated: May 7, 2020.
Brenda B. Smith,
Executive Assistant Commissioner, Office of Trade.

[FR Doc. 2020-10396 Filed 5-14-20; 8:45 am]

BILLING CODE 9111-14-P